DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Mary Jean Pajak, P.E., FEMA, 500 C Street SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. * Elevation in feet (NGVD) • Elevation in feet (NAVD)
FLORIDA
Belleair (Town), Pinellas County (FEMA Docket No. D-7524)
Gulf of Mexico:
Approximately 1,100 feet northwest of the intersection of Corbett Street and Druid Road | •105
Approximately 300 feet south of the intersection of Bellevue Boulevard and Druid Road | •12
Maps available for inspection at the Belleair Town Hall, 901 Ponce De Leon Boulevard, Belleair, Florida.
———
Belleair Beach (City), Pinellas County (FEMA Docket No. D-7524)
Gulf of Mexico:
At the intersection of Donato Drive and Altea Drive | •11
Approximately 300 feet west of the intersection of Harrison Avenue and Gulf Boulevard | •15
Maps available for inspection at the Belleair Beach City Hall, 444 Causeway Boulevard, Belleair Beach, Florida.
———
Belleair Bluffs (City), Pinellas County (FEMA Docket No. D-7524)
Gulf of Mexico:
Approximately 300 feet west of the intersection of Renatta Drive and Bluff View Drive | •12
Approximately 1,700 feet west of the intersection of Lentz Road and Los Galos Drive | •14
Maps available for inspection at the Belleair Bluffs City Hall, 2747 Sunset Boulevard, Belleair Bluffs, Florida.
———
Belleair Shore (Town), Pinellas County (FEMA Docket No. D-7524)
Gulf of Mexico:
Approximately 300 feet west of the intersection of 13th Street and Gulf Boulevard | •15
Approximately 50 feet west of the intersection of 1st Street and Gulf Boulevard | •12
Maps available for inspection at the Belleair Shore Town Hall, 1200 Gulf Boulevard, Belleair Shore, Florida.
———
Clearwater (City), Pinellas County (FEMA Docket No. D-7524)
Gulf of Mexico:
At the intersection of Fulton Avenue and Harbor Drive | •11
Approximately 0.4 mile northwest of intersection of Bay Esplanade and Eldorado Avenue | •17
Joe's Creek:
Approximately 500 feet downstream of 49th Street North | •24
Downstream side of 49th Street North | •25
Maps available for inspection at the City of Clearwater Public Works Administration Building, 100 South Myrtle Avenue, Clearwater, Florida.
———
Collier County (Unincorporated Areas) (FEMA Docket No. D-7524)
Gulf of Mexico:
Approximately 300 feet west of the intersection of Commerce Street and Gulf Shore Drive | •18
At the intersection of Seagull Avenue and Vanderbilt Drive | •13
Approximately 800 feet southwest of the intersection of Glendale Avenue and Venetian Way | •13
At the intersection of Guava Drive and Coconut Circle South | •6
Maps available for inspection at the Collier County Administrative Building, 3301 Tamiami Trail, Naples, Florida.
———
Dunedin (City), Pinellas County (FEMA Docket No. D-7524)
Curlew Creek:
At confluence with Intracoastal Waterway | •17
Approximately 0.34 mile upstream of County Road 1 | •25
Jerry Branch:
At confluence with Curlew Creek | •25
Approximately 0.4 mile upstream of Main Street | •47
Gulf of Mexico:
Approximately 1.0 mile northwest of the intersection of Edinburgh Drive and Causeway Boulevard | •17
Approximately 300 feet west of the intersection of Douglas Avenue and Lyndhurst Street | •11
Maps available for inspection at the City of Dunedin Engineering Department, 737 Louden Avenue, Dunedin, Florida.
———
Everglades (City), Collier County (FEMA Docket No. D-7524)
Gulf of Mexico:
At the intersection of Jasmine Street and Storter Avenue | •8
At the intersection of Evergreen Street and Copeland Avenue | •7
At end of Airport Road, where it meets Everglade Airport | •10
At intersection of Begonia Street and Buckner Avenue | •7
Maps available for inspection at the Everglades City Hall, 102 Broadway, Everglades, Florida.
———
Gulfport (City), Pinellas County (FEMA Docket No. D-7524)
Gulf of Mexico Boca Ciega Bay:
Approximately 1,500 feet southeast of the intersection of Seabreeze Drive and Seabird Road | •15
At the intersection of Pompano Place and Dolphin Boulevard East | •12
Maps available for inspection at the City of Gulfport Public Services Department, 5330 23rd Avenue South, Gulfport, Florida.
———
Indian Rocks Beach (City), Pinellas County (FEMA Docket No. D-7524)
Gulf of Mexico:
Approximately 200 feet west of the intersection of Gulf Boulevard and 27th Avenue | •12
At the intersection of 20th Avenue and Bay Boulevard | •10
Maps available for inspection at the Indian Rocks Beach City Hall, 1507 Bay Palm Boulevard, Indian Rocks Beach, Florida.
———
Indian Shores (Town), Pinellas County (FEMA Docket No. D-7524)
Gulf of Mexico:
Approximately 200 feet east of the intersection of 200th Avenue and Gulf Boulevard | •12
Approximately 250 feet west of the intersection of 199th Avenue and Gulf Boulevard | •13
Maps available for inspection at the Indian Shores Town Hall, 19305 Gulf Boulevard, Indian Shores, Florida.
———
Kenneth City (Town), Pinellas County (FEMA Docket No. D-7524)
Joe's Creek:
Upstream side of 66th Street | •15
Approximately 23 miles upstream of 58th Street | •21
Maps available for inspection at the Kenneth City Town Hall, 6000 54th Avenue, North, Kenneth City, Florida.
———
Largo (City), Pinellas County (FEMA Docket No. D-7524)
Gulf of Mexico:
At the intersection of Indian Rocks Road and Dryer Avenue | •10
Approximately 1,200 feet northwest of the intersection of Indian Rocks Road and Kent Drive | •12
Maps available for inspection at the Largo City Hall, 201 Highland Avenue, Largo, Florida.
———
Madeira Beach (City), Pinellas County (FEMA Docket No. D-7524)
Gulf of Mexico:
Approximately 100 feet east of the intersection of 154th Avenue and Second Street East | •11
Approximately 600 feet southwest of the intersection of 132nd Avenue and Gulf Boulevard | •17
Maps available for inspection at the Madeira Beach Building Department, 300 Municipal Drive, Madeira Beach, Florida.
———
Marco Island (City), Collier County (FEMA Docket No. D-7524)
Gulf of Mexico:
At intersection of Crescent Street and Thrush Court | •8
At the intersection of Honduras Avenue and Stillwater Court | •7
Approximately 2,000 feet west of the intersection of Huron Court and Swallow Avenue | •10
Approximately 900 feet southwest of intersection of South Barfield Drive and Heights Court | •16
Maps available for inspection at the Marco Island City Hall, 50 Bald Eagle Drive, Marco Island, Florida.
———
Naples (City), Collier County (FEMA Docket No. D-7524)
Gulf of Mexico:
Approximately 600 feet west of intersection of Yucca Road and Gulf Shore Boulevard North | •16
At the intersection of Gordon Drive and Champney Bay Court | •13
At the intersection of Yucca Road and Banyan Boulevard | •10
Maps available for inspection at the Naples City Hall, 735 8th Street South, Naples, Florida.
———
North Redington Beach (Town), Pinellas County (FEMA Docket No. D-7524)
Gulf of Mexico:
At the intersection of Rosa Lee Way and 173rd Avenue | •10
Approximately 450 feet west of the intersection of 173rd Avenue and Gulf Boulevard | •16
Maps available for inspection at the North Redington Beach Town Hall, 190 173rd Avenue, North Redington Beach, Florida.
———
Pinellas County (Unincorporated Areas) (FEMA Docket No. D-7524)
Brooker Creek Tributary A:
At East Lake Road | •6
Approximately 0.42 mile upstream of Ridgemoor Boulevard | •16
Brooker Creek Tributary B:
At confluence with Brooker Creek Tributary A | •8
At Eastlake Woodlands Parkway | •9
Joe's Creek Tributary No. 4:
At confluence with Joe's Creek | •10
Approximately 0.25 mile upstream of 53rd Street | •17
Joe's Creek Tributary No. 5:
At 74th Avenue (Park Boulevard) | •10
Approximately 0.26 mile upstream of Park Boulevard | •10
Miles Creek:
At confluence with Joe's Creek | •13
Approximately 700 feet downstream of 38th Avenue | •13
Hollin Creek Tributary A:
Approximately 0.06 mile downstream of Old East Lake Road | •9
Approximately 0.29 mile upstream of Crescent Oaks Boulevard | •22
Hollin Creek Tributary A-2:
At confluence with Hollin Creek Tributary A | •19
At Dirt Road | •19
Hollin Creek Tributary B:
At confluence with Hollin Creek Tributary A | •12
At Trinity Boulevard | •21
Jerry Branch:
At Brady Drive | •25
At the weir on north end of Indigo Drive | •47
Joe's Creek:
Approximately 1,250 feet downstream of 54th Avenue North | •10
At 28th Street North | •45
Curlew Creek:
Approximately 0.7 mile upstream of Pinellas Trail | •12
Approximately 750 feet upstream of County Road 1/Palm Harbor Road | •21
Gulf of Mexico/Boca Ciega Bay:
At the intersection of Gulfwinds Drive West and Crosswinds Drive | •12
Approximately 300 feet southwest of the intersection of Curlew Place and Florida Avenue | •18
Maps available for inspection at the Pinellas County Building Department, 310 Court Street, Clearwater, Florida.
———
Pinellas Park (City), Pinellas County (FEMA Docket No. D-7524)
Joe's Creek Tributary No. 4:
At 62nd Avenue North | •14
Approximately 0.25 mile upstream of 53rd Street North | •17
Joe's Creek Tributary No. 5:
Approximately 0.26 mile upstream of Park Boulevard | •10
Approximately 0.02 mile upstream of 61st Street North | •16
Maps available for inspection at the Pinellas Park City Hall, 5141 78th Avenue, Pinellas Park, Florida.
———
Redington Beach (Town), Pinellas County (FEMA Docket No. D-7524)
Gulf of Mexico:
At the intersection of East 3rd Street and Redington Drive | •11
Approximately 500 feet west of the intersection of Gulf Boulevard and 164th Avenue | •16
Maps available for inspection at the Redington Beach Town Hall, 105 164th Avenue, Redington Beach, Florida.
———
Redington Shores (Town), Pinellas County (FEMA Docket No. D-7524)
Gulf of Mexico:
Approximately 100 feet north of the intersection of 1st Street and 182nd Avenue East | •10
Approximately 700 feet west of intersection of Gulf Boulevard and Coral Avenue | •16
Maps available for inspection at the Redington Shores Town Hall, 17425 Gulf Boulevard, Redington Shores, Florida.
———
Seminole (City), Pinellas County (FEMA Docket No. D-7524)
Gulf of Mexico/Boca Ciega Bay:
Approximately 1,150 feet east of the intersection of 94th Street and 46th Avenue North | •11
Approximately 400 feet southeast of the intersection of Woodlawn Drive and Seminole Boulevard | •13
Maps available for inspection at the City of Seminole Technical Services Department, 7464 Ridge Road, Seminole, Florida.
———
South Pasadena (City), Pinellas County (FEMA Docket No. D-7524)
Gulf of Mexico/Boca Ciega Bay:
At the intersection of Gulfport Boulevard and Pasadena Avenue | •12
Approximately 500 feet west of the intersection of Sunset Drive and Bignonia Way | •13
Maps available for inspection at the South Pasadena City Hall, 7047 Sunset Drive South, South Pasadena, Florida.
———
St. Augustine Beach (City), St. Johns County (FEMA Docket No. D-7532)
Atlantic Ocean:
Approximately 600 feet east of 16th Street and A1A Beach Boulevard | * 17
Approximately 600 feet southeast of A1A and Pope Road | * 13
Approximately 600 feet northeast of 16th Street and A1A Beach Boulevard | #1
Maps available for inspection at the St. Augustine City Hall, 2200 A1A South, St. Augustine Beach, Florida.
———
St. Johns County (Unincorporated Areas) (FEMA Docket No. D-7532)
Flora Branch:
At the upstream side of Race Track Road | * 6
Approximately 3,160 feet upstream of Flora Branch Boulevard | * 17
Kendall Creek:
Approximately 4,700 feet upstream of confluence with St. Johns River | * 10
Approximately 1,000 feet upstream of Roberts Road | * 25
Cunningham Creek:
Approximately 4,500 feet upstream of confluence with St. Johns River | * 7
Approximately 2 miles upstream of Flora Branch Boulevard | * 21
Kentucky Branch:
Approximately 1,000 feet upstream of State Road 13 | * 6
Approximately 4,400 feet upstream of confluence with Kentucky Branch Tributary | * 24
Kentucky Branch Tributary:
At confluence with Kentucky Branch | * 7
At upstream side of Greenbriar Road | * 18
Moultrie Creek:
At the upstream side of U.S. Route 1 | * 8
At downstream side of Route 214 | * 31
Moultrie Creek Tributary No. 1:
Approximately 1,200 feet upstream of confluence with Moultrie Creek | * 8
Approximately 80 feet upstream of Lewis Point Road | * 26
Moultrie Creek Tributary No. 3:
At confluence with Moultrie Creek | * 8
Approximately 200 feet upstream of Willow Walk Place | * 22
Moultrie Creek Tributary No. 4:
At confluence with Moultrie Creek | * 8
Approximately 80 feet upstream of State Route 207 | * 37
Orange Grove Branch:
Approximately 600 feet upstream of State Road 13N | * 14
Approximately 1.8 miles upstream of State Road 13N | * 25
Petty Branch:
Approximately 200 feet downstream of State Road 13 | * 6
Approximately 1.9 miles upstream of State Road 13 | * 27
St. Johns River Tributary No. 2:
Approximately 300 feet downstream of State Road 13N | * 6
At downstream side of Remington Forest Drive | * 9
St. Johns River Tributary No. 1:
Approximately 500 feet downstream of Grove Bluff Road | * 7
Approximately 125 feet upstream of State Road 13N | * 16
St. Johns River Tributary No. 5:
Approximately 2,350 feet upstream of confluence with St. Johns River | * 6
Approximately 0.7 mile upstream of State Road 13 | * 17
St. Johns River Tributary No. 3, Branch No. 1:
Approximately 575 feet downstream of State Road 13 | * 6
Approximately 800 feet upstream of unnamed road | * 21
St. Johns River Tributary No. 3, Branch No. 2:
Approximately 75 feet upstream of confluence with St. Johns River Tributary No. 3, Branch No. 1 | * 14
Approximately 1,825 feet upstream of confluence with St. Johns River Tributary No. 3, Branch No. 1 | * 23
St. Johns River Tributary No. 4:
Approximately 1,950 feet upstream of confluence with St. Johns River | * 6
Approximately 0.6 mile upstream of State Road 13 | * 24
Sixmile Creek:
Approximately 3.5 miles upstream of confluence with St. Johns River | * 7
At confluence with Turnbull Creek | * 15
Turnbull Creek:
At confluence with Sixmile Creek | * 15
At upstream side of Interstate 95 | * 29
Durbin Creek:
At upstream side of Race Track Road | * 12
Approximately 280 feet upstream of U.S. Highway 1 | * 15
Mill Creek No. 2:
Approximately 1,600 feet upstream of confluence with Sixmile Creek | * 6
Approximately 0.8 mile upstream of State Road 16 | * 26
Red House Branch:
At confluence with San Sebastian River | * 9
Approximately 100 feet upstream of Chicken Farm Road | * 27
Atlantic Ocean:
Approximately 800 feet east of intersection of Hildago Road and Costanero Road | * 13
Approximately 500 feet east of intersection of Country Route 210 and Ponte Vedra Boulevard | * 17
Maps available for inspection at the St. Johns County Administration Building, Building Department, 4020 Lewis Speedway, St. Augustine, Florida.
———
St. Pete Beach (City), Pinellas County (FEMA Docket No. D-7524)
Gulf of Mexico:
At the intersection of 80th Way and Blind Pass Road | * 12
Approximately 800 feet southwest of the intersection of 72nd Avenue and Sunset Avenue | * 17
Maps available for inspection at the City of St. Pete Beach Planning and Development, 155 Cora Avenue, St. Pete Beach, Florida.
———
St. Petersburg (City), Pinellas County (FEMA Docket No. D-7524)
Miles Creek:
Approximately 700 feet downstream of 38th Avenue | * 13
Approximately 0.05 mile upstream of 22nd Avenue and 58th Street | * 19
Gulf of Mexico/Boca Ciega Bay:
Approximately 50 feet west of the intersection of Park Street and 24th Avenue North | •12
Approximately 200 feet southwest of the intersection of Sunset Drive North and 31st Terrace North | •15
Maps available for inspection at the City of St. Petersburg Municipal Services Center, Permit Division, One 4th Street North, St. Petersburg, Florida.
———
Tarpon Springs (City), Pinellas County (FEMA Docket No. D-7524)
Gulf of Mexico:
Approximately 300 feet south of the intersection of Castleworks Lane and Coldstream Court | •12
Approximately 1,000 feet west of the intersection of Harbor Watch Circle and North Pointe Alexis Drive | •18
Maps available for inspection at the Tarpon Springs City Hall, Engineering Division, 324 East Pine Street, Tarpon Springs, Florida.
———
Treasure Island (City), Pinellas County (FEMA Docket No. D-7524)
Gulf of Mexico:
Approximately 1,000 feet west of the intersection of Dolphin Drive and Paradise Boulevard | •12
Approximately 900 feet west of the intersection of 125th Avenue and Gulf Boulevard | •17
Maps available for inspection at the Treasure Island City Hall, Building Department, 120 108th Avenue, Treasure Island, Florida.
ILLINOIS
Monroe County (Unincorporated Areas) (FEMA Docket No. D-7546)
Shallow Flooding Area:
Approximately 500 feet west of the intersection of West Industrial Drive and Westwood Court | * 408
Maps available for inspection at the Monroe County Zoning Office, Monroe County Courthouse, 100 South Main Street, Waterloo, Illinois.
MASSACHUSETTS
Scituate (Town), Plymouth County (FEMA Docket No. D-7528)
Massachusetts Bay:
Approximately 500 feet east of intersection of Crescent Avenue and Peggotty Beach Road | * 27
Approximately 100 feet east of intersection of Wellesley Road and Jericho Road | * 12
Approximately 500 feet east of intersection of Wampatuck Way and Turner Road | Depth 2′
Approximately 900 feet northeast of intersection of Circuit Avenue and Edward Foster Road | Depth 1′
At intersection of Baileys Causeway and Glades Road | Depth 2′
Maps available for inspection at the Scituate Town Hall, 600 Chief Justice Highway, Scituate, Massachusetts.
MISSISSIPPI
Monticello (Town), Lawrence County (FEMA Docket No. D-7548)
Runnels Creek:
At confluence with Pearl River | * 192
Just downstream of Thomas E. Jolly Drive | * 205
Runnels Creek Tributary A:
At confluence with Runnels Creek | * 201
Approximately 1,125 feet upstream of Graham Road | * 204
Runnels Creek Tributary B:
At confluence with Tributary A | * 202
Just downstream of State Route 27 | * 214
Runnels Creek Tributary C:
At confluence with Tributary B | * 206
Just downstream of Thomas E. Jolly Drive | * 212
Maps available for inspection at the Monticello Town Hall, 202 Jefferson Street, Monticello, Mississippi.
Bernardsville (Borough), Somerset County (FEMA Docket No. D-7532)
Indian Grave Brook:
At confluence with Passaic River | * 303
Approximately 475 feet upstream Washington Corner Road | * 597
Tributary K:
At confluence with Indian Grave Brook | * 456
Approximately 1,672 feet upstream of Washington Corner Road | * 565
Passaic River:
At downstream corporate limit | * 303
Approximately 4,940 feet above downstream corporate limits | * 375
Mine Brook:
Approximately 0.05 mile upstream Mill Street | * 397
At dam | * 436
Tributary MB:
Approximately 40 feet upstream of confluence with Mine Brook | * 416
Approximately 0.02 mile downstream Thompson Road bridge | * 435
Maps available for inspection at the Bernardsville Borough Hall, Office of the Borough Clerk, 166 Mine Brook Road, Bernardsville, New Jersey.
OHIO
Gallia County (Unincorporated Areas) (FEMA Docket No. D-7556)
Chickamauga Creek:
At U.S. Route 35 | * 570
Approximately 1600 feet upstream of U.S. Route 35 | * 575
Tributary C:
At confluence with Chickamauga Creek | * 571
At Mitchell Extension | * 600
Tributary D:
At confluence with Tributary C | * 573
Approximately 100 feet upstream of confluence with Tributary C | * 573
Maps available for inspection at the Gallia County Offices, 18 Locust Street, Gallipolis, Ohio.
WISCONSIN
Dane County (Unincorporated Areas) (FEMA Docket Nos. D-7504 and D-7556)
Lake Koshkonong:
Entire shoreline within community | * 784
Koshkonong Creek:
From approximately 0.7 mile downstream of North Jargo Road | * 857
Approximately 0.4 mile downstream of Park Street | * 931
Oregon Branch Badfish Creek:
A point approximately 300 feet downstream of Jefferson Street | * 937
Just downstream of Jefferson Street | * 937
Nine Springs Creek:
A point approximately 550 feet upstream of the confluence with the Yahara River | * 848
A point approximately 0.33 mile upstream of the Soo Line Railroad | * 848
Pheasant Branch:
A point approximately 0.56 mile upstream of Century Avenue | * 858
A point approximately 0.84 mile upstream of Century Avenue | * 858
Upper Mud Lake:
Entire shoreline of Upper Mud Lake within community | * 848
Vermont Creek:
Just upstream of the Soo Line Railroad | * 810
A point approximately 0.02 mile upstream of County Highway KP | * 814
Maps available for inspection at the Dane County City-County Building, Room 116, 210 Martin Luther King, Jr. Boulevard, Madison, Wisconsin.

(Catalog of Federal Domestic Assistance No. 83.100, “Flood Insurance.”)

Dated: May 21, 2003.
Anthony S. Lowe,
Mitigation Division Director, Emergency Preparedness and Response Directorate.

[FR Doc. 03-13645 Filed 5-30-03; 8:45 am]

BILLING CODE 6718-04-P